INTERNATIONAL TRADE COMMISSION

[Investigation No. 337-TA-925]

Certain Communications or Computing Devices and Components Thereof Commission Determination Not To Review an Initial Determination Terminating the Investigation in its Entirety Based Upon Settlement; Termination of Investigation; and Vacatur of Order No. 34; Correction

AGENCY: U.S. International Trade Commission.

ACTION: Correction of Notice. The Commission hereby corrects the summary section of the notice published in the Federal Register July 29, 2015 (80 FR 45232).

SUMMARY: Notice is hereby given that the U.S. International Trade Commission has determined not to review the presiding administrative law judge's (“ALJ”) initial determination (“ID”) (Order No. 41) terminating the above-captioned investigation in its entirety based upon settlement. The commission has also determined to vacate Order No. 34 as moot.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 21, 2014, based on a Complaint filed by Enterprise Systems Technologies S.a.r.l. of Luxembourg (“Enterprise”). 79 FR 49537-38 (Aug. 21, 2014). The Complaint alleges violations of section 337 of the Tariff Act of 1930, as amended, 19 U.S.C. 1337, in the importation into the United States, the sale for importation, and the sale within the United States after importation of certain communications or computing devices and components thereof by reason of infringement of certain claims of U.S. Patent Nos. 6,691,302 (“the '302 patent”); 5,870,610; 6,594,366; and 7,454,201. The notice of investigation named the following respondents: HTC Corporation of Taoyuan, Taiwan; HTC America, Inc. of Bellevue, Washington; LG Electronics Inc. of Seoul, Republic of Korea; LG Electronics USA, Inc. of Englewood Cliffs, New Jersey; LG Electronics MobileComm U.S.A., Inc. of San Diego, California; Samsung Electronics Co. Ltd. of Seoul, Republic of Korea; Samsung Electronics America, Inc. of Ridgefield Park, New Jersey; Samsung Telecommunications America, LLC of Richardson, Texas (collectively, “Remaining Respondents”); Apple Inc. of Cupertino, California (“Apple”); and Cirrus Logic Inc. of Austin, Texas (“Cirrus”). The Office of Unfair Import Investigations was also named as a party to the investigation.

On September 9, 2014, the ALJ issued an initial determination, Order No. 6, granting intervenor status to Google Inc. of Mountain View, California (“Google”). On March 9, 2015, the ALJ issued an ID, Order No. 20, terminating the investigation as to Cirrus. On June 5, 2015, the ALJ issued an ID, Order No. 37, terminating the investigation as to Apple. The Commission determined not to review those IDs.

On May 21, 2015, the ALJ issued Order No. 34, an initial determination terminating the '302 patent from the investigation based upon a lack of standing. Enterprise filed a petition for review on May 28, 2015. The parties subsequently moved for a 60-day extension to file any further briefing on the issue. The Commission granted the motion on June 1, 2015, and extended the date for determining whether to review Order No. 34 to August 21, 2015. Thus, Order No. 34 remains outstanding.

On June 22, 2015, Enterprise, Remaining Respondents, and Google jointly moved to terminate the investigation in its entirety based upon settlement. On June 29, 2015, the Commission investigative attorney filed a response in support of the motion. No other responses to the motion were received.

The ALJ issued the subject ID on July 1, 2015, and a corrected version on July 17, 2015, granting the joint motion for termination. The ALJ found that the settlement agreement satisfies the requirements of Commission Rule 210.21(b). She further found, pursuant to Commission Rule 210.50(b)(2), that there is no indication that termination of the investigation would adversely impact the public interest. No one petitioned for review of the ID.

The Commission has determined not to review the ID as corrected. In light of the settlement, the Commission has determined to vacate Order No. 34 as moot.

The authority for the Commission's determination is contained in section 337 of the Tariff Act of 1930, as amended (19 U.S.C. 1337), and in art 210 of the Commission's Rules of Practice and Procedure (19 CFR part 210).

By order of the Commission.
Issued: July 29, 2015.
Lisa R. Barton,
Secretary to the Commission.

[FR Doc. 2015-18984 Filed 8-3-15; 8:45 am]

BILLING CODE 7020-02-P